DEPARTMENT OF THE INTERIOR

Bureau of Land Management

[LLNMA02000 L54200000.FR0000 LVDIG15ZGKL0]

Notice of Application for a Recordable Disclaimer of Interest: New Mexico

AGENCY: Bureau of Land Management, Interior.

ACTION: Notice.

SUMMARY: An application has been filed with the Bureau of Land Management (BLM) by Charles J. Muncy, Jr., for a Recordable Disclaimer of Interest from the United States pursuant to Section 315 of the Federal Land Policy and Management Act of 1976, as amended (FLPMA), and the regulations in 43 CFR subpart 1864 for the surface estate of land lying between certain deeded lands and the adjusted left bank of the Rio Grande in Socorro County, New Mexico. This notice is intended to inform the public of the pending application and provide a public comment period for the Disclaimer of Interest.

DATES: Comments on this action should be received by December 8, 2015.

ADDRESSES: Written comments must be filed with the Deputy State Director, Lands and Resources, BLM, New Mexico State Office, P.O. Box 27115, Santa Fe, NM 87502 or 301 Dinosaur Trail, Santa Fe, NM 87508.

FOR FURTHER INFORMATION CONTACT: Virginia Alguire, Realty Specialist, telephone number (575) 838-1290. Additional information pertaining to this application can be reviewed in case file NMNM 132601 located in the Socorro Field Office, 901 S. Highway 85, Socorro, NM 87801. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Pursuant to Section 315 of the FLMPA, Charles J. Muncy, Jr., filed an application for a Disclaimer of Interest for the land described as follows:

New Mexico Principal Meridian, New Mexico

T. 2 S., R. 1 E.,

Sec. 6, lots 2 thru 6 and SW1/4NE1/4;

Sec. 7, lot 3.

Containing 155.16 acres, more or less.

The BLM review of the land status records indicate that the west boundaries of the deeded parcels extend to the medial line of the current location of the Rio Grande due to accretion. All available land status records indicate the river has gradually shifted to the west. By this action the United States of America hereby releases and relinquishes any claim of interest to the above described land.

The public is hereby notified that comments may be submitted to the Deputy State Director at the address shown above within the comment period identified above. Any adverse comments will be evaluated by the State Director who may modify or vacate this action and issue a final determination. In the absence of any action by the State Director, this notice will become the final determination of the Department of the Interior and a disclaimer may be issued 90 days from publication of this notice.

All persons who wish to present comments, suggestions, or objections in connection with the proposed disclaimer may do so by writing to the Deputy State Director, Lands and Resources at the above address. Comments, including names and street addresses of commenters, will be available for public review at the BLM New Mexico State Office (see address above), during regular business hours, Monday through Friday, except Federal holidays. Before including your address, phone number, email address, or other personal identifying information in your comment, you should be aware that your entire comment-including your personal identifying information-may be made publicly available at any time. While you can ask us in your comment to withhold your personal identifying information from public review, we cannot guarantee that we will be able to do so.

Authority: 43 CFR 1864.2(a).

James K. Stovall,
Acting Deputy State Director, Lands and Resources.

[FR Doc. 2015-22663 Filed 9-8-15; 8:45 am]

BILLING CODE 4310-FB-P